DEPARTMENT OF HOMELAND SECURITY

Federal Emergency Management Agency

[Docket ID FEMA-2015-0001; Internal Agency Docket No. FEMA-B-1525]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: June 25, 2015.
Roy E. Wright,
Deputy Associate Administrator for Insurance and Mitigation, Department of Homeland Security, Federal Emergency Management Agency.

State and county | Location and case No. | Chief executive officer of community | Community map repository | Online location of letter of map revision | Effective date of modification | Community No.
Idaho: Teton | Unincorporated areas of Teton County (15-10-0131P) | The Honorable Bill Leake, Chair, Board of Teton County Commissioners, Teton County Courthouse, 150 Courthouse Drive, Driggs, ID 83422 | 89 N Main Street, Suite 6, P.O. Box 763, Driggs, ID 83422 | http://www.msc.fema.gov/lomc | October 16, 2015 | 160230
Illinois:
Cook | Village of Palatine (15-05-3589P) | The Honorable Jim Schwantz, Mayor, Village of Palatine, 150 West Wilson Street, Palatine, IL 60067 | Village Hall, 200 East Wood Street, Palatine, IL 60067 | http://www.msc.fema.gov/lomc | October 6, 2015 | 175170
Sangamon | City of Springfield (14-05-6241P) | The Honorable J. Michael Houston, Mayor, City of Springfield, 800 East Monroe, Room 300, Springfield, IL 62701 | Springfield-Sangamon Regional Planning Commission, 200 South 9th, Room 212, Springfield, IL 62701 | http://www.msc.fema.gov/lomc | September 29, 2015 | 170604
Sangamon | Unincorporated areas of Sangamon County (14-05-6241P) | The Honorable Andy Van Meter, Sangamon County Chairman, 200 South 9th Street, Room 201, Springfield, IL 62701 | Springfield-Sangamon County Regional Planning Commission, 200 South 9th, Room 212, Springfield, IL 62701 | http://www.msc.fema.gov/lomc | September 29, 2015 | 170912
Indiana: Lake | City of Hammond (15-05-1481P) | The Honorable Thomas M. McDermott, Jr., Hammond City Hall, Second Floor, 5925 Calumet Avenue, Hammond, IN 46320 | 5925 Calumet Avenue, Hammond, IN 46320 | http://www.msc.fema.gov/lomc | October 2, 2015 | 180134
Kansas:
Reno | City of Hutchinson (15-07-0592P) | The Honorable Cindy Proett, Mayor, City of Hutchinson, City Hall, 125 East Avenue B, Hutchinson, KS 67501 | 600 Scott Boulevard, S. Hutchinson, KS 67505 | http://www.msc.fema.gov/lomc | October 2, 2015 | 200283
Reno | Unincorporated areas of Reno County (15-07-0592P) | The Honorable James D. Schlickau, Chairman, Reno County Commission, 206 West 1st Avenue, Hutchinson, KS 67505 | 125 East Avenue B, Hutchinson, KS 67501 | http://www.msc.fema.gov/lomc | October 2, 2015 | 200567
Maine: York | Town of York (15-01-0844P) | Mr. Stephen H. Burns, Town Manager, Town of York, 186 York Street, York, ME 03909 | 62 Arlington Street, Dracut, MA 01826 | http://www.msc.fema.gov/lomc | October 1, 2015 | 230159
Massachusetts: Middlesex | Town of Dracut (15-01-0572P) | Mrs. Cathy Richardson, Chairperson, Board of Selectman, Town Hall, 62 Arlington Street, Dracut, MA 01826 | 62 Arlington Street, Dracut, MA 01826 | http://www.msc.fema.gov/lomc | September 24, 2015 | 250190
New Hampshire: Merrimack | Town of Hooksett (14-01-3205P) | The Honorable James Sullivan, Town of Hooksett Councilor at Large, 35 Main Street, Hooksett, NH 03106 | 16 Main Street, Hooksett, NH 03106 | http://www.msc.fema.gov/lomc | September 15, 2015 | 330115
Oregon: Tillamook | Unincorporated areas of Tillamook County (14-10-1727P) | Mr. Tim Josi, Board of County Commissioners, Tillamook County, 201 Laurel Avenue, Tillamook, OR 97141 | Courthouse, 201 Laurel Avenue, Tillamook, OR 97141 | http://www.msc.fema.gov/lomc | September 24, 2015 | 410196

[FR Doc. 2015-17522 Filed 7-16-15; 8:45 am]

BILLING CODE 9110-12-P